ENVIRONMENTAL PROTECTION AGENCY

[EPA-HQ-OAR-2016-0243; FRL-9951-55-OAR]

Proposed Information Collection Request; Comment Request; Information Collection Request for Plywood and Composite Wood Products National Emission Standards for Hazardous Air Pollutants (NESHAP) Residual Risk and Technology Review (RTR)

AGENCY: Environmental Protection Agency (EPA).

ACTION: Notice.

SUMMARY: The Environmental Protection Agency (EPA) is planning to submit an information collection request (ICR), “Information Collection Request for Plywood and Composite Wood Products National Emission Standards for Hazardous Air Pollutants (NESHAP) Residual Risk and Technology Review (RTR)” (EPA ICR No. 2552.01, OMB Control No. 2060—NEW) to the Office of Management and Budget (OMB) for review and approval in accordance with the Paperwork Reduction Act (PRA) (44 U.S.C. 3501 et seq.). Before doing so, the EPA is soliciting public comments on specific aspects of the proposed information collection as described below. This is a request for approval of a new collection. An Agency may not conduct or sponsor and a person is not required to respond to a collection of information unless it displays a currently valid OMB control number.

DATES: Comments must be submitted on or before November 7, 2016.

ADDRESSES: Submit your comments, referencing Docket ID No. EPA-HQ-OAR-2016-0243, online using http://www.regulations.gov (our preferred method), by email to A-and-R-docket@epa.gov, or by mail to EPA Docket Center (EPA/DC), Environmental Protection Agency, Mail Code 28221T, 1200 Pennsylvania Ave. NW., Washington, DC 20460.

The EPA's policy is that all comments received will be included in the public docket without change, including any personal information provided, unless the comment includes profanity, threats, information claimed to be Confidential Business Information (CBI), or other information whose disclosure is restricted by statute.

FOR FURTHER INFORMATION CONTACT: John Bradfield, Sector Policies and Programs Division, Office of Air Quality Planning and Standards (E143-03), Environmental Protection Agency, 109 T.W. Alexander Drive, Research Triangle Park, NC 27711; telephone number: (919) 541-3062; fax number: (919) 541-3470; email address: bradfield.john@epa.gov.

SUPPLEMENTARY INFORMATION: Supporting documents which explain in detail the information that the EPA will be collecting are available in the public docket for this ICR. The docket can be viewed online at http://www.regulations.gov or in person at the EPA Docket Center (EPA/DC), EPA WJC West Building, Room 3334, 1301 Constitution Ave. NW., Washington, DC. The telephone number for the Docket Center is 202-566-1742. The telephone number for the public reading room is 202-566-1744. For additional information about the EPA's public docket, visit http://www.epa.gov/dockets.

Pursuant to section 3506(c)(2)(A) of the PRA, the EPA is soliciting comments and information to enable it to:

(i) Evaluate whether the proposed collection of information is necessary for the proper performance of the functions of the Agency, including whether the information will have practical utility;

(ii) Evaluate the accuracy of the Agency's estimate of the burden of the proposed collection of information, including the validity of the methodology and its practical feasibility and the assumptions used;

(iii) Enhance the quality, utility, and clarity of the information to be collected; and

(iv) Minimize the burden of the collection of information on those who are to respond, including through the use of appropriate automated electronic, mechanical, or other technological collection techniques or other forms of information technology, e.g., permitting electronic submission of responses. The EPA is evaluating the use of the Compliance and Emissions Data Reporting Interface (CEDRI) to collect ICR data for this category. Using CEDRI can both reduce the ICR collection burden through the use of on-line information technology and reduce reporting burdens in the future for affected facilities in the category. The EPA is interested in receiving comments on the use of this data collection approach.

The EPA will consider the comments received and amend the ICR as appropriate. The final ICR package will then be submitted to OMB for review and approval. At that time, the EPA will issue another Federal Register notice to announce the submission of the ICR to OMB and the opportunity to submit additional comments to OMB.

Abstract: This ICR is being conducted by the EPA's Office of Air and Radiation to assist the EPA Administrator to fulfill her responsibilities under sections 112(d) and 112(f) of the Clean Air Act (CAA), as amended. The CAA requires a review of each NESHAP following the application of the standards to determine any remaining risk and whether the standards protect public health with an ample margin of safety and to determine whether more stringent standards are necessary to prevent an adverse environmental effect. The CAA also requires that the standard be reviewed and revised, as necessary, taking into account developments in practices, processes, and control technology. For efficiency and to reduce burden, these reviews are conducted concurrently and known as residual risk and technology reviews (RTR). In addition to the CAA reviews, in 2007, the United States Court of Appeals for the District of Columbia Circuit issued a remand requiring the administrator to develop standards for emission units identified in the Plywood and Composite Wood Products (PCWP) NESHAP for which emission limits were not promulgated.

The EPA reviewed its emission inventory and compliance databases to determine if its current information was sufficient to conduct an RTR for the PCWP NESHAP and develop emission limits for the remanded PCWP process units. The available data for the affected population of plywood, composite wood products, and lumber dry kilns was found to be insufficient to adequately review and evaluate the emission standards for these source categories. The ICR will provide specific, required information, including emission inventories, compliance demonstrations, process changes, and information about control technologies/practices adopted since the application of maximum achievable control technology (MACT). Table 1 contains the North American Industry Classification System (NAICS) codes of facilities impacted by this information collection. Only major sources and synthetic area sources for these NESHAP categories will be affected by this information collection.

There will be a survey phase, Phase I, and a contingent testing phase, Phase II, in this information collection. Phase I seeks to collect facility-level information (e.g., facility name, location, contact information, and process unit details), emissions information, compliance data, control information, and descriptions of technological innovations. Phase I will be sent to all known operators of PCWP facilities that are major sources for hazardous air pollutants (HAP) regulated by these standards and synthetic area sources which used technology to avoid major PCWP NESHAP source status. Phase I responses may contain CBI. The survey will be provided and collected in an electronic format. The submission requires the owner or operator to certify that the information being provided is accurate and complete.

If the emission information that we collect in Phase I is inadequate to assess the remaining risk following the application of MACT and/or to assess technological developments in practices, processes, or controls that reduce HAP from PCWP facilities, we plan to require facilities to conduct emissions testing and will implement Phase II. Phase II, the testing phase of the survey, will be sent to selected PCWP facilities across the different industry segments. The emissions information collected in Phase II, if implemented, will not be CBI. However, production information will also be collected so that adequate emission factors can be generated from the required testing. There may be some production information associated with the emissions tests that facilities will consider CBI.

If OMB approves this ICR, this one-time collection will solicit information under authority of CAA section 114. The EPA intends to provide the survey in electronic format. The survey will be sent to all facilities identified as being affected by the PCWP NESHAP through information available to the Agency. The EPA envisions allowing recipients 90 days to respond to the survey after it is approved by the OMB and distributed to the PCWP industry for their response. Non-confidential information from this ICR would be made available to the public. Any information designated as confidential by a survey respondent that the EPA subsequently determines to constitute CBI or a trade secret under the EPA's CBI regulations at 40 CFR part 2, subpart B, will be protected pursuant to those regulations and, for trade secrets, under 18 U.S.C. 1905. If no claim of confidentiality accompanies the information when it is received by the EPA, it may be made available to the public by the EPA without further notice pursuant to the EPA regulations at 40 CFR 2.203. The EPA identified facilities potentially subject to the PCWP MACT using the Air Facility System (AFS) database, the Facility Registry Service (FRS) database, and the Enforcement and Compliance History Online (ECHO) database. Facilities were maintained in the facility list if the affected facilities were labeled as major sources or synthetic minor sources. This conservative approach to identifying affected facilities may overestimate the number of respondents.

Table 1—Examples of Regulated Industries
NAICS c odes | Examples of regulated entities
321113 | Sawmills with lumber kilns.
321211 | Hardwood plywood and veneer plants.
321212 | Softwood plywood and veneer plants.
321213 | Structural Wood Members, Not Elsewhere Classified (engineered wood products plants).
321219 | Reconstituted Wood Product Manufacturing.
32199 | All Other Wood Product Manufacturing.

This ICR was developed specifically for facilities regulated by the PCWP NESHAP rule and has been tailored to the processes of each PCWP manufacturing segment listed in the above table. The federal emission standard that is the subject of this information collection is the National Emission Standards for Hazardous Air Pollutants: Plywood and Composite Wood Products (40 CFR part 63, subpart DDDD).

We have placed in the docket a draft version of the survey and are considering two additional response options for which we are requesting comment. First, we are considering an optional form for submitting emission information which includes default emission factors from AP-42 and other industry technical publications. Respondents can use the listed emission factors or their own factors. We believe this option may reduce the survey burden. We are requesting comments about whether such an emission estimation tool would be useful. Also, we plan to provide facilities the option of an on-line, electronic submission approach that will allow the entry of just the facility and sub-facility information for the Phase I survey directly into the FRS database using the Compliance and Emissions Data Reporting Interface (CEDRI). While we anticipate that entering data to the FRS database through CEDRI would reduce burden for the survey and for future EPA information collection activities, we have not estimated the potential burden reduction. Comments on the CEDRI/FRS information collection approach addressing its usefulness as an alternative and whether additional response time would be required are requested.

Respondents are asked to complete forms from available information, and no request is made to create or develop emission estimates from information in the literature. Responses to the ICR are mandatory under the authority of section 114 of the CAA.

Form Numbers: None.

Respondents/affected entities: Phase I of this ICR is specifically requesting information from major source facilities regulated by the PCWP NESHAP (40 CFR part 63, subpart DDDD) and synthetic area sources whose permit limits remove the facility from PCWP applicability. Phase II of this ICR, if implemented in whole or part, will only request information from major source facilities regulated by the PCWP NESHAP (40 CFR part 63, subpart DDDD).

Respondent's obligation to respond: Responses to the ICR are mandatory under the authority of section 114 of the CAA.

Estimated number of respondents: 425 (total).

Frequency of response: Once.

Total estimated burden: Since phase II of this ICR is contingent on the information collected in phase I, there is a range in the total estimated burden for this ICR. The range is from $12,003,650 to $19,778,180 and from 106,065 to 114,306 hours (per year), depending on whether Phase II is required. Burden is defined at 5 CFR 1320.03(b).

The Agency burden to implement Phase I is 14,658 hours and, potentially, 994 hours for Phase II. The estimated cumulative Agency burden to administer this ICR (all phases) is 15,652 hours.

Total estimated cost: The estimated costs for the PCWP industry for Phase I is $11,996,531, which includes $7,119 in operating and maintenance (O&M) costs to cover mailing hard copies of Phase I. The estimated Agency costs to administer Phase I is $511,033, which includes $7,353 in O&M costs to send certified CAA section 114 letters to all respondents selected for Phase I.

Since the actions in Phase II are contingent on the information collected in Phase I, the cost for Phase II could range from zero to the amount needed to conduct all the potential tests outlined in the test plan, the maximum amount. The EPA can only estimate the cost on the maximum amount at this time, however, since the Phase I information has not been collected. The estimated costs for the PCWP industry for Phase II, if implemented in whole, is $7,774,530, which includes $637 in O&M costs to cover mailing hard copies of Phase II. The estimated Agency costs to administer Phase II in whole is $34,872, which includes $706 in O&M costs to send certified CAA section 114 letters to all respondents selected for Phase II surveys with electronic return receipt.

The resulting maximum total industry costs for all phases of this ICR is estimated to be $19,778,180, which includes $7,755 in O&M costs to cover mailing hard copies of Phase I responses and Phase II. The estimated cumulative Agency costs to administer this ICR (all phases) is $545,905, which includes $8,059 in O&M costs to send certified CAA section 114 letters to all respondents selected for Phase I and Phase II surveys with electronic return receipt.

Changes in Estimates: This is a new ICR, so this section does not apply.

Peter Tsirigotis,
Director, Sector Policies and Programs Division, Office of Air Quality Planning and Standards.

[FR Doc. 2016-21507 Filed 9-7-16; 8:45 am]

BILLING CODE 6560-50-P